DEPARTMENT OF VETERANS AFFAIRS

38 CFR Parts 1, 4, 6, 14, and 21

RIN 2900-AL10

Adjudication; Fiduciary Activities—Nomenclature Changes

AGENCY: Department of Veterans Affairs.

ACTION: Final rule; technical correction.

SUMMARY: The Department of Veterans Affairs (VA) published a document in the Federal Register on July 17, 2002 (67 FR 46868), amending its adjudication and fiduciary regulations to update certain titles in parts 3 and 13. At that time, we failed to update parts 1, 4, 6, 14, and 21 to reflect the new titles. This document corrects those regulations by replacing the titles of Adjudication Division, Adjudication Officer, and Veterans Services Officer, with Veterans Service Center, and Veterans Service Center Manager. These nonsubstantive changes are made for clarity and accuracy.

DATES: Effective Date: May 17, 2006.

FOR FURTHER INFORMATION CONTACT: Trude Steele, Consultant, Compensation and Pension Service, Policy and Regulations Staff, Veterans Benefits Administration, Department of Veterans Affairs, 810 Vermont Avenue, NW., Washington, DC 20420, (202) 273-7210.

SUPPLEMENTARY INFORMATION: VA published a document in the Federal Register on July 17, 2002, at 67 FR 46868, amending 38 CFR parts 3 and 13 to reflect the reorganization of the Adjudication and Veterans Services Divisions into Veterans Service Centers and to reflect the elimination of the positions of the Adjudication Officer and the Veterans Services Officer and the creation of the position of the Veterans Service Center Manager. At that time, we failed to update parts 1, 4, 6, 14, and 21 to reflect the new position. This document simply updates parts 1, 4, 6, 14 and 21 to reflect the change.

Administrative Procedures Act

This final rule consists of nonsubstantive changes and, therefore, is not subject to the notice and comment and effective date provisions of 5 U.S.C. 553.

List of Subjects

38 CFR Part 1

Administrative practice and procedure, Archives and records, Cemeteries, Claims, Courts, Crime, Flags, Freedom of information, Government contracts, Government employees, Government property, Infants and children, Inventions and patents, Parking, Penalties, Privacy, Reporting and recordkeeping requirements, Seals and insignia, Security measures, Wages.

38 CFR Part 4

Disability benefits, Pensions, Veterans.

38 CFR Part 6

Disability benefits, Life insurance, Loan programs-veterans, Military personnel, Veterans.

38 CFR Part 14

Administrative practice and procedure, Claims, Courts, Foreign relations, Government employees, Lawyers, Legal services, Organization and functions (Government agencies), Reporting and recordkeeping requirements, Surety bonds, Trusts and trustees, Veterans.

38 CFR Part 21

Administrative practice and procedure, Armed forces, Civil rights, Claims, Colleges and universities, Conflict of interests, Education, Employment, Grant programs—education, Grant programs-veterans, Health care, Loan programs-education, Loan programs—veterans, Manpower training programs, Reporting and recordkeeping requirements, Schools, Travel and transportation expenses, Veterans, Vocational education, Vocational rehabilitation.

Approved: May 10, 2006.
Robert C. McFetridge,
Acting Assistant to the Secretary for Regulation Policy and Management.

For the reasons set forth in the preamble, 38 CFR parts 1, 4, 6, 14, and 21 are amended as follows:

PART 1—GENERAL PROVISIONS

1. The authority citation for part 1 continues to read as follows:

Authority: 38 U.S.C. 501(a), and as noted in specific sections.

§ 1.553(b) [Amended]

2. Section 1.553(b) is amended by removing “Veterans Services Officer” and adding, in its place, “Veterans Service Center Manager”.

PART 4—SCHEDULE FOR RATING DISABILITIES

3. The authority citation for part 4 continues to read as follows:

Authority: 38 U.S.C. 1155, unless otherwise noted.

4. Part 4 is amended by removing all references to “Adjudication Officer” and adding, in each place, “Veterans Service Center Manager”.

§ 4.97 [Amended]

5. In § 4.97, Note (1), immediately following diagnostic code 6724, remove “Adjudication Division” and add, in its place, “Veterans Service Center”.

PART 6—UNITED STATES GOVERNMENT LIFE INSURANCE

6. The authority citation for part 6 continues to read as follows:

Authority: 38 U.S.C. 501, 1940-1963, 1981-1988, unless otherwise noted.

§ 6.21 [Amended]

7. Section 6.21(a) is amended by removing “Veterans Services Officer” and adding, in its place, “Veterans Service Center Manager”.

PART 14—LEGAL SERVICES, GENERAL COUNSEL, AND MISCELLANEOUS CLAIMS

8. The authority citation for part 14 continues to read as follows:

Authority: 5 U.S.C. 301; 28 U.S.C. 2671-2680; 38 U.S.C. 501(a), 512, 515, 5502, 5902-5905; 28 CFR part 14, appendix to part 14, unless otherwise noted.

§ 14.629 [Amended]

9. Section 14.629 introductory text is amended by removing “Adjudication Officer or Service Center Manager” and adding, in its place, “Veterans Service Center Manager”.

§ 14.709 [Amended]

10. Section 14.709 is amended by removing all references to “Veterans Services Officer” or “Veterans Service Officer” and adding, in each place, “Veterans Service Center Manager”.

PART 21—VOCATIONAL REHABILITATION AND EDUCATION

Subpart A—Vocational Rehabilitation under 38 U.S.C.

11. The authority citation for part 21, subpart A continues to read as follows:

Authority: 5 U.S.C. 501(a) 3100-3121, unless otherwise noted.

§ 21.50(d) [Amended]

12. Section 21.50(d) is amended by removing “Adjudication Division” and adding, in its place, “Veterans Service Center”.

Subpart D—Administration of Educational Assistance Programs

13. The authority citation for part 21, subpart D continues to read as follows:

Authority: 10 U.S.C. 2141 note, ch. 1606; 38 U.S.C. 501(a), chs. 30, 32, 34, 35, 36, unless otherwise noted.

§ 21.4009 [Amended]

14. Section 21.4009(d) is amended by removing “Adjudication Officer” and adding, in its place, “Veterans Service Center Manager”.

Subpart I—Temporary Program of Vocational Training for Certain New Pension Recipients

15. The authority citation for part 21, subpart I continues to read as follows:

Authority: Pub. L. 98-543, 38 U.S.C. 501 and chapter 15, sections specifically cited, unless otherwise noted.

§ 21.6056 [Amended]

16. Section 21.6056(b) is amended by removing “Adjudication Division” and adding, in its place, “Veterans Service Center” each time it appears.

17. The undesignated center heading preceding § 21.6420 is revised to read as follows:

Coordination With the Veterans Service Center

18. Section 21.6420 is amended by:

a. Revising the section heading.

b. In the introductory text, removing “Adjudication Division” and adding, in its place, “Veterans Service Center”.

The revisions read as follows:

§ 21.6420 Coordination with the Veterans Service Center.

* * * * *

Subpart J—Temporary Program of Vocational Training and Rehabilitation

19. The authority citation for part 21, subpart J continues to read as follows:

Authority: Pub. L. 98-543, sec 111; 38 U.S.C. 1163; Pub. L. 100-687, sec. 1301.

§ 21.6521 [Amended]

20. Section 21.6521(b) is amended by removing “Adjudication Division” and adding, in its place, “Veterans Service Center” each time it appears.

[FR Doc. 06-4579 Filed 5-16-06; 8:45 am]

BILLING CODE 8320-01-P